ENVIRONMENTAL PROTECTION AGENCY

[EPA-HQ-OW-2024-0481; FRL-11244-03-OW]

National Pollutant Discharge Elimination System (NPDES) 2026 Issuance of the Multi-Sector General Permit for Stormwater Discharges Associated With Industrial Activity; Reopening of Comment Period

AGENCY: Environmental Protection Agency (EPA).

ACTION: Notice; reopening of comment period.

SUMMARY: All 10 Environmental Protection Agency (EPA) Regions are proposing for public comment the 2026 National Pollutant Discharge Elimination System (NPDES) general permit for stormwater discharges associated with industrial activity, also referred to as the “2026 Multi-Sector General Permit (MSGP)” or the “proposed permit.” EPA is extending the comment period for 45 days, from April 4, 2025, to May 19, 2025, in response to stakeholder requests for an extension. The proposed permit, once finalized, will replace the EPA's existing MSGP that expires on February 28, 2026. The EPA proposes to issue this permit for five (5) years. Once finalized, this permit will be available in areas where the EPA is the NPDES permitting authority. The EPA solicits comment on all aspects of the proposed general permit and seeks public comment on specific requests for information as described in this document. The public is encouraged to read the proposed permit fact sheet to better understand the proposed permit requirements. The proposed permit and fact sheet can be found at https://www.epa.gov/npdes/stormwater-discharges-industrial-activities.

DATES: The comment period for the notice published in the Federal Register on December 13, 2024 (89 FR 101000) and the extension of comment period published on February 3, 2025 (90 FR 8798), is reopened in response to stakeholder requests for more time. The EPA is reopening the comment period and comments must be received on or before May 19, 2025.

ADDRESSES: You may send comments, identified by Docket ID No. EPA-HQ-OW-2024-0481 to https://www.regulations.gov/. Follow the online instructions for submitting comments.

Once submitted, comments cannot be edited or removed from Regulations.gov. EPA may publish any comment received to the public docket. Do not submit electronically any information you consider to be Confidential Business Information (CBI) or other information whose disclosure is restricted by statute. Multimedia submissions (audio, video, etc.) must be accompanied by a written comment.

The written comment is considered the official comment and should include discussion of all points you wish to make. The agencies will generally not consider comments or comment contents located outside of the primary submission (i.e. on the web, cloud, or other file sharing system). For additional submission methods, the full EPA public comment policy, information about CBI or multimedia submissions, and general guidance on making effective comments, please visit https://www.epa.gov/dockets/commenting-epa-dockets.

FOR FURTHER INFORMATION CONTACT: Alicia Denning, Office of Water, Office of Wastewater Management, Mail Code 4203M, 1200 Pennsylvania Avenue NW, Washington, DC 20460; telephone number: 202-564-0018; email address: denning.alicia@epa.gov.

SUPPLEMENTARY INFORMATION: On December 13, 2024, EPA published the proposed MSGP (89 FR 101000) entitled “National Pollutant Discharge Elimination System (NPDES) 2026 Issuance of the Multi-Sector General Permit for Stormwater Discharges Associated with Industrial Activity.” The original deadline to submit comments was January 13, 2025. On February 3, 2025, the EPA extended the comment period to April 4, 2025 ((90 FR 8798)). On April 2, 2025, prior to the close of the comment period, the EPA posted a memo in the docket that extended the comment period on www.regulations.gov for an additional 45 days (see EPA-HQ-OW-2024-0481-0212). This action published in the Federal Register reflects the extension of the comment period outlined in the published comment period extension memo. Written comments must now be received by May 19, 2025.

Andrew D. Sawyers,
Director, Office of Wastewater Management.

Memorandum

Subject: Posting EPA-HQ-OW-2024-0481 to Regulations.gov for Public Access

From: Alicia Denning, Water Permits Division

Thru: Christopher Kloss, Director, Water Permits Division

This memorandum authorizes the posting of EPA-HQ-OW-2024-0481 to Regulations.gov for public access.

On December 13, 2024, all ten of the Environmental Protection Agency's (EPA) Regions proposed for public comment the 2026 National Pollutant Discharge Elimination System (NPDES) general permit for stormwater discharges associated with industrial activity, also referred to as the “proposed 2026 Multi-Sector General Permit (MSGP)” or the “proposed permit.”

As initially published in the Federal Register, comments on the proposed permit were to be submitted to the EPA on or before February 11, 2025 (a 60-day public comment period). The EPA received multiple requests for additional time to submit comments and extended the public comment period by 60 days, which was set to close on April 4, 2024. The EPA has received further requests to extend the public comment period once again. Therefore, the EPA is extending the public comment period for an additional 45 days.

This proposed permit will be open for public comment from 12/13/2024 to 05/19/2025.

Submit your comments, identified by Docket ID No. EPA-HQ-OW-2024-0481 via the Federal eRulemaking Portal: www.regulations.gov.

Follow the online instructions for submitting comments. Once submitted, comments cannot be edited or removed from the docket. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit: http://www.epa.gov/dockets/commenting-epa-dockets.

FOR FURTHER INFORMATION CONTACT: Alicia Denning, Office of Water, Office of Wastewater Management, Water Permits Division (4203M), Environmental Protection Agency, 1200 Pennsylvania Avenue NW, Washington, DC 20460; telephone number: 202-564-0018; email address: denning.alicia@epa.gov. Electronic versions of the proposed permit and fact sheet are also available on the EPA's NPDES website at https://www.epa.gov/npdes/stormwater-discharges-industrial-activities.

[FR Doc. 2025-06774 Filed 4-18-25; 8:45 am]

BILLING CODE 6560-50-P